DEPARTMENT OF HOMELAND SECURITY

Coast Guard

33 CFR Part 165

[COTP San Francisco Bay 03-008]

RIN 1625-AA00

Safety Zone; San Francisco Bay, CA

AGENCY: Coast Guard, DHS.

ACTION: Temporary final rule.

SUMMARY: The Coast Guard is establishing a temporary safety zone in the navigable waters of San Francisco Bay, California, off the San Francisco waterfront, for the “KFOG KaBoom” fireworks display. The safety zone will encompass the navigable waters within a 1,000-foot radius of the launch platform, which will be located approximately 1,000 feet off Piers 30 and 32 in San Francisco, California. This safety zone is necessary to provide for the safety of mariners in the vicinity of the fireworks display and for the safety of the vessel, its crew, and technicians working the fireworks launch barge and the pyrotechnics.

DATES: This temporary rule is effective from 7 p.m. to 10 p.m. on May 10, 2003.

ADDRESSES: Comments and material received from the public, as well as documents indicated in this preamble as being available in the docket, are part of the docket [COTP San Francisco Bay 03-008] and are available for inspection or copying at Coast Guard Marine Safety Office San Francisco Bay, Coast Guard Island, Alameda, California, 94501, between 9 a.m. and 4 p.m., Monday through Friday, except Federal holidays.

FOR FURTHER INFORMATION CONTACT: Lieutenant Diana J. Cranston, U.S. Coast Guard Marine Safety Office San Francisco Bay, at (510) 437-3073.

SUPPLEMENTARY INFORMATION:

Regulatory Information

We did not publish a notice of proposed rulemaking (NPRM) for this regulation. Under 5 U.S.C. 553(b)(B) and 5 U.S.C. 553(d)(3), the Coast Guard finds that good cause exists for not publishing an NPRM and for making this rule effective less than 30 days after publication in the Federal Register. Because the event's sponsor scheduled this year's event on a date inconsistent with the date listed in Table 1 to 33 CFR 165.1191 (Safety Zones: Northern California annual fireworks events), a temporary final rule became necessary. Due to specific event sponsored logistical coordination issues, the Coast Guard only recently became aware of the date change, and therefore there was insufficient time for the Coast Guard to draft and publish an NPRM, or a temporary final rule 30 days prior to the event. As such, the event would occur before the rulemaking process was complete. Any delay in implementing this rule would be contrary to the public interest since immediate action is necessary to temporarily close the fireworks area and to protect the maritime public from the hazards associated with these fireworks displays, which are intended for public entertainment.

On July 21, 1999, we published a final rule entitled “Special Local Regulations and Safety Zones; Northern California Annual Marine Events” in the Federal Register (64 FR 39027), after publishing an NPRM on August 31, 1998 (63 FR 46206). The July 21, 1999 final rule, among other things, added a master list of recurring fireworks events to the Code of Federal Regulations in new § 165.1112 of title 33, Code of Federal Regulations. This section was redesignated as § 165.1191 on June 25, 2001 (66 FR 33642). Table 1 to § 165.1191 lists the annual date for “KFOG KaBoom” as “Last Saturday in May.”

This year's event will take place on May 10, 2003. The Coast Guard will work with the event sponsor to determine the date of future KFOG KaBoom events. If necessary, the Coast Guard will publish an NPRM to propose appropriate changes to 33 CFR § 165.1191, so mariners and members of the public can better anticipate future fireworks events in Northern California.

Background and Purpose

The KFOG KaBoom is an annual fireworks show, which combines fireworks and music and is presented by KFOG, a San Francisco radio station. This safety zone is necessary to protect the spectators, and vessels and other property from the hazards associated with the fireworks show. This temporary safety zone will consist of a small portion of the navigable waters of the San Francisco Bay along the San Francisco waterfront.

Discussion of Rule

The temporary safety zone consists of the navigable waters of San Francisco Bay within a 1,000 foot radius of the launch platform, located approximately 1,000 feet off Piers 30 and 32 in San Francisco, California. Entry into, transit through or anchoring within the safety zone by all vessels is prohibited, unless authorized by the Captain of the Port, or his designated representative.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

Although this safety zone will restrict boating traffic, the effect of this regulation will not be significant as the safety zone is will affect only a small portion of the waterway and will be short in duration.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000. For the same reasons set forth in the above Regulatory Evaluation, the Coast Guard certifies under 5 U.S.C. § 605(b) that this rule is not expected to have a significant economic impact on any substantial number of entities, regardless of their size.

Any impact to small entities would not be significant since this zone will encompass only a small portion of the waterway for a limited period of time and vessels can safely navigate around the safety zone.

Assistance For Small Entities

Under section 213(a) of the Small Business Regulatory Enforcement Fairness Act of 1996 (Public Law 104-121), we offer to assist small entities in understanding the rule so that they could better evaluate its effects on them and participate in the rulemaking process. If the rule will affect your small business, organization, or government jurisdiction and you have questions concerning its provisions or options for compliance, please contact the person listed under FOR FURTHER INFORMATION CONTACT for assistance in understanding this rule.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule contains no collection of information requirements under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have analyzed this rule under Commandant Instruction M16475.lD, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34)(g), of the Instruction, from further environmental documentation because we are establishing a safety zone.

A final “Environmental Analysis Check List” and a final “Categorical Exclusion Determination” are available in the docket where indicated under ADDRESSES.

List of Subjects in 33 CFR Part 165

Harbors, Marine safety, Navigation (water), Reports and record keeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 50 U.S.C. 191; 33 CFR 1.05-1(g), 6.04-1, 6.04-6, and 160.5; Department of Homeland Security Delegation No. 0170.

2. From 7 p.m. to 10 p.m. on May 10, 2003, in § 165.1191 temporarily suspend the entry in Table 1 to the section for “KFOG KaBoom” and add a new temporary paragraph (c) to read as follows:

§ 165.1191 Safety Zones: Northern California annual fireworks events.

* * * * *

(c) KFOG KaBoom Safety Zone. The safety zone for KFOG KaBoom in San Francisco consists of the navigable waters within a 1,000-foot radius of the launch platform, which will be located approximately 1,000 feet off Piers 30 and 32 in San Francisco, California. This safety zone will be enforced from 7 p.m. PDT to 10 p.m. PDT on May 10, 2003. In accordance with the general regulations in § 165.23 of this part, entering into, transiting through, or anchoring within this zone is prohibited, unless authorized by the Captain of the Port or the Patrol Commander, or their designated representative.

Dated: April 25, 2003.
Gerald M. Swanson,
Captain, U.S. Coast Guard, Captain of the Port, San Francisco Bay, California.

[FR Doc. 03-11299 Filed 5-6-03; 8:45 am]

BILLING CODE 4910-15-P